SECURITIES AND EXCHANGE COMMISSION

[Release Nos. 33-9104; 34-61462; File No. 265-25-03]

Investor Advisory Committee

AGENCY: Securities and Exchange Commission.

ACTION: Notice of meeting of SEC Investor Advisory Committee.

SUMMARY: The Securities and Exchange Commission Investor Advisory Committee is providing notice that it will hold a public meeting on Monday, February 22, 2010, in the Multipurpose Room, L-006, at the Commission's main offices, 100 F Street, NE., Washington, DC. The meeting will begin at 9 a.m. (EST) and will be open to the public. The Committee meeting will be webcast on the Commission's Web site at http://www.sec.gov. Persons needing special accommodations to take part because of a disability should notify a contact person listed below. The public is invited to submit written statements to the Committee.

The agenda for the meeting includes: (i) Consideration of a Committee recusal policy; (ii) report from the Education Subcommittee, including a presentation on the National Financial Capability Survey; (iii) report from the Investor as Purchaser Subcommittee, including a discussion of fiduciary duty and mandatory arbitration; (iv) report from the Investor as Owner Subcommittee, including recommendations for the Committee on Regulation FD and proxy voting transparency, as well as reports on a work plan for environmental, social, and governance disclosure and on financial reform legislation; and (v) discussion of next steps and closing comments.

DATES: Written statements should be received on or before February 16, 2010.

ADDRESSES: Written statements may be submitted by any of the following methods:

Electronic Comments

• Use the Commission's Internet submission form (http://www.sec.gov/rules/other.shtml); or

• Send an e-mail message to rule-comments@sec.gov. Please include File Number 265-25-03 on the subject line.

Paper Comments

• Send paper statements in triplicate to Elizabeth M. Murphy, Federal Advisory Committee Management Officer, Securities and Exchange Commission, 100 F Street, NE., Washington, DC 20549-1090.

All submissions should refer to File No. 265-25-03. This file number should be included on the subject line if e-mail is used. To help us process and review your statements more efficiently, please use only one method. The Commission will post all statements on the Advisory Committee's Web site (http://www.sec.gov/spotlight/investoradvisorycommittee.shtml). Statements are available for Web site viewing and printing in the Commission's Public Reference Room, 100 F Street, NE., Washington, DC 20549, on official business days between the hours of 10 a.m. and 3 p.m. All statements received will be posted without change; we do not edit personal identifying information from submissions. You should submit only information that you wish to make available publicly.

FOR FURTHER INFORMATION CONTACT: Kayla J. Gillan, Deputy Chief of Staff, Office of the Chairman, at (202) 551-2100, or Owen Donley, Chief Counsel, Office of Investor Education and Advocacy, at (202) 551-6322, Securities and Exchange Commission, 100 F Street, NE., Washington, DC 20549-6561.

SUPPLEMENTARY INFORMATION: In accordance with Section 10(a) of the Federal Advisory Committee Act, 5 U.S.C. App. 1, section 10(a), Kayla J. Gillan, Designated Federal Officer of the Committee, has approved publication of this notice.

Dated: February 2, 2010.
Elizabeth M. Murphy,
Committee Management Officer.

[FR Doc. 2010-2519 Filed 2-4-10; 8:45 am]

BILLING CODE P